ENVIRONMENTAL PROTECTION AGENCY

[FRL-8001-2]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et Seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1057.10; NSPS for Sulfuric Acid Plants (Renewal); in 40 CFR part 60, subpart H; was approved October 19, 2005; OMB Number 2060-0041; expires October 31, 2008.

EPA ICR No. 2181.01; Vehicle Service Information Web Site Audit; was approved October 19, 2005; OMB Number 2060-0574; expires October 31, 2008.

EPA ICR No. 1658.04; Control Technology Determinations for Constructed or Reconstructed Major Sources of Hazardous Air Pollutants (Renewal); in 40 CFR part 63, subpart B; was approved October 20, 2005; OMB Number 2060-0373; expires October 31, 2008.

EPA ICR No. 0370.19; Underground Injection Control Program (Renewal); in 40 CFR part 144-40 CFR part 148; was approved October 25, 2005; OMB Control Number 2040-0042; expires April 30, 2007.

EPA ICR No. 2015.02; Certification in Lieu of Chloroform Minimum Monitoring Requirements for Direct and Indirect Discharging Mills in the Bleached Papergrade Kraft and Soda Subcategory of the Pulp, Paper and Paperboard Point Source Category (Renewal); in 40 CFR 430.02(f); was approved October 25, 2005; OMB Number 2040-0242; expires October 31, 2008.

EPA ICR No. 2097.02; The National Primary Drinking Water Regulations; Long Term 2 Enhanced Surface Water Treatment Rule (Final Rule); in 40 CFR 142.14-40 CFR 142.16, 40 CFR 131.33; was approved October 26, 2005; OMB Number 2040-0266; expires October 31, 2008.

EPA ICR No. 0783.47; Motor Vehicle Emission and Fuel Economy Compliance: Light Duty Vehicles, Light Duty Trucks, and Highway Motorcycles (Renewal); in 40 CFR part 85, subparts R, S, T, V, W, and Y, 40 CFR part 86, subparts B, E, F, G, H, J, K, L, O, P, R, and S, 40 CFR part 600, subparts A, B, D, and F; was approved November 1, 2005; OMB Number 2060-0104; expires November 30, 2008.

EPA ICR No. 2185.01; State Review Framework; in 40 CFR 70.4(j)(1), 40 CFR 70.10(c)(1)(iii), 40 CFR 271.17(a), 40 CFR 123.41, 40 CFR 123.43; was approved November 1, 2005; OMB Number 2020-0031; expires November 30, 2008.

EPA ICR No. 1069.08; NSPS for Primary and Secondary Emissions from Basic Oxygen Furnaces (Renewal); in 40 CFR part 60, subparts N and Na; was approved November 1, 2005; OMB Number 2060-0029; expires November 30, 2008.

EPA ICR No. 1996.03; National Survey on Environmental Management of Asthma; was approved November 1, 2005; OMB Number 2060-0490; expires November 30, 2008.

EPA ICR No. 1983.04; NESHAP for Carbon Black, Ethylene, Cyanide, and Spandex (Renewal); in 40 CFR part 63, subpart YY; was approved November 2, 2005; OMB Number 2060-0489; expires November 30, 2008.

EPA ICR No. 0988.09; Water Quality Standards Regulation (Renewal); in 40 CFR 131.6-131.8, 131.20-131.22, 132.1-132.5, part 132 Appendices A-E, and Procedures 1 and 2 of Appendix F; was approved November 8, 2005; OMB Number 2040-0049; expires November 30, 2008.

EPA ICR No. 1829.03; Best Management Practices (BMP) for the Bleached Papergrade Kraft and Soda Subcategory and the Papergrade Kraft Sulfite Subcategory of the Pulp, Paper and Paperboard Point Source Category (Renewal); in 40 CFR 430.03 and 40 CFR 122.44(k); was approved November 8, 2005; OMB Number 2040-0207; expires November 30, 2008.

EPA ICR No. 2048.02; BEACH Act Grant Program (Renewal); was approved November 8, 2005; OMB Number 2040-0244; expires on November 30, 2008.

EPA ICR No. 1877.03; Milestones Plans for the Bleached Papergrade Kraft and Soda Subcategory of the Pulp, Paper and Paperboard Manufacturing Category (Renewal); in 40 CFR 430.24(b)(c); was approved November 8, 2005; OMB Number 2040-0202; expires November 30, 2008.

EPA ICR No. 0277.14; Application for New and Amended Pesticide Registration; in 40 CFR part 152, 40 CFR part 156, and 40 CFR part 158; was approved November 8, 2005; OMB Number 2070-0060; expires November 30, 2008.

EPA ICR No. 2053.01; Best Workplaces for Commuters Program; was approved November 9, 2005; OMB Number 2060-0571; expires November 30, 2008.

EPA ICR No. 0619.10; Highway Vehicle Activity and Emissions (Renewal); was approved November 9, 2005; OMB Number 2060-0078; expires November 30, 2008.

EPA ICR No. 1285.06; Nonconformance Penalties for Heavy-Duty Engines and Heavy-Duty Vehicles, Including Light-Duty Trucks (40 CFR part 86, subpart L) (Renewal); in 40 CFR part 86, subpart L; was approved November 9, 2005; OMB Number 2060-0132; expires November 30, 2008.

Comment Filed

EPA ICR No. 2086.01; Dioxin and Dioxin-Like Compounds; Toxic Equivalency Reporting; Community Right-to-Know Toxic Chemical Release Reporting (Proposed Rule); OMB filed comments October 25, 2005.

EPA ICR No. 2192.01; Revisions to the Unregulated Contaminant Monitoring Regulation (UCMR) for Public Water Systems (Proposed Rule); OMB filed comments November 8, 2005.

Dated: November 14, 2005.
Oscar Morales,
Director, Collection Strategies Division.

[FR Doc. 05-23222 Filed 11-22-05; 8:45 am]

BILLING CODE 6560-50-P